FEDERAL MARITIME COMMISSION

Notice of Agreements Filed

The Commission hereby gives notice of the filing of the following agreements under the Shipping Act of 1984. Interested parties may submit comments on an agreement to the Secretary, Federal Maritime Commission, Washington, DC 20573, within ten days of the date this notice appears in the Federal Register. Copies of agreements are available through the Commission's Office of Agreements (202-523-5793 or tradeanalysis@fmc.gov).

Agreement No.: 011117-039.

Title: United States/Australasia Discussion Agreement.

Parties: A.P. Moller-Maersk A/S; Safmarine Container Lines NV; ANL Singapore Pte Ltd.; Australia-New Zealand Direct Line; CMA CGM, S.A.; Compagnie Maritime Marfret, S.A.; CP Ships USA, LLC; FESCO Ocean Management Limited; Hamburg-Süd; and Wallenius Wilhelmsen Logistics AS.

Filing Party: Wayne R. Rohde, Esq.; Sher & Blackwell LLP; 1850 M Street, NW.; Suite 900; Washington, DC 20036.

Synopsis: The amendment adds ANL Singapore Pte Ltd. as a party to the agreement.

Agreement No.: 011574-014.

Title: Pacific Islands Discussion Agreement.

Parties: Hamburg-Süd; Hapag-Lloyd Container Linie GmbH; Polynesia Line Ltd.; FESCO Ocean Management Limited; Australia-New Zealand Direct Line; CMA CGM, S.A.; and Compagnie Maritime Marfret, S.A.

Filing Party: Wayne R. Rohde, Esq.; Sher & Blackwell, LLP; 1850 M Street, NW.; Suite 900; Washington, DC 20036.

Synopsis: The amendment adds Hapag-Lloyd Container Linie GmbH as a party to the agreement.

Agreement No.: 011715-004.

Title: IMC/ATL Space Charter and Sailing Agreement.

Parties: Associated Transport Line, LLC and Industrial Maritime Carriers, LLC.

Filing Party: Wade S. Hooker, Esquire, 211 Central Park W, New York, NY 10024.

Synopsis: The amendment expands the geographic scope of the agreement and increases the number of vessels that can be used under the agreement.

Agreement No.: 011962.

Title: Consolidated Chassis Management Pool Agreement.

Parties: The Ocean Carrier Equipment Management Association and its member lines, the Association's subsidiary Consolidated Chassis Management LLC and its affiliates, as well as China Shipping Container Lines Co., Ltd.

Filing Party: Jeffrey F. Lawrence, Esq.; Sher & Blackwell LLP; 1850 M Street, NW.; Suite 900; Washington, DC 20036.

Synopsis: The agreement would authorize the parties to establish and operate local, metropolitan, and/or regional chassis pools at ports and inland locations in the United States.

Agreement No.: 200860-003.

Title: Third Amendment to Lease and Operating Agreement between PRPA and Dependable Distribution Services Inc. for Pier 84 South.

Parties: Philadelphia Regional Port Authority and Dependable Distribution Services Inc.

Filing Party: Paul D. Coleman, Esq.; Hoppel, Mayer & Coleman; 1050 Connecticut Avenue, NW.; Tenth Floor; Washington, DC 20036.

Synopsis: The amendment extends the period for negotiation through May 31, 2006, without triggering the lease's termination provisions.

Agreement No.: 201169.

Title: Intergovernmental Agreement between the Port of Portland and the Port of Vancouver.

Parties: The Port of Portland and the Port of Vancouver.

Filing Party: Paul D. Coleman, Esq.; Hoppel, Mayer & Coleman; 1050 Connecticut Avenue, NW.; Tenth Floor; Washington, DC 20036.

Synopsis: The agreement provides for the lease of a floating dock facility and permits Vancouver to independently market the facility under certain conditions.

By Order of the Federal Maritime Commission.
Dated: May 26, 2006.
Bryant L. VanBrakle,
Secretary.

[FR Doc. E6-8504 Filed 5-31-06; 8:45 am]

BILLING CODE 6730-01-P